DEPARTMENT OF ENERGY

Federal Energy Regulatory Commission

Notice of Application Tendered for Filing With the Commission, Soliciting Additional Study Requests, and Establishing Procedures for Relicensing and a Deadline for Submission of Final Amendments

April 11, 2001.

Take notice that the following hydroelectric application has been filed with the Commission and is available for public inspection.

a. Type of Application: New Major License.

b. Project No.: 5044-008.

c. Date Filed: April 2, 2001.

d. Applicant: Avondale Mills Inc.

e. Name of Project: Sibley Mills Project.

f. Location: On the Augusta Canal about 5 miles downstream of the Augusta Canal diversion dam, adjacent to the Savannah River, Richmond County, Augusta, GA. The project is one of three hydropower projects located in the Augusta Canal. The project does not affect Federal lands.

g. Filed Pursuant to: Federal Power Act 16 U.S.C. 791 (a)-825(r)

h. Applicant Contact: Mr. J. H. Vaughan III, Avonda Mills Inc., P.O. Box 128, Graniteville, SC 29829, (803) 663-2116.

i. FERC Contact: Monte TerHaar, (202) 219-2768 or monte.terhaar@ferc.fed.us.

j. Deadline for filing additional study requests: June 1, 2001.

All documents (original and eight copies) should be filed with: David P. Boergers, Secretary, Federal Energy Regulatory Commission, 888 First Street, NE, Washington, DC 20426. Comments, protests and interventions may be file electronically via the internet in lieu of paper. See, 18 CFR 385.2001(a)(1)(iii) and the instructions on the Commission's web site at http://www/ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time. We are not requesting intervenors to this project at this time.

l. The existing Sibley Mill Project consists of: (1) There is no dam or impoundment as water is withdrawn from the Augusta Canal; (2) a 50 foot long by 15 foot high intake equipped with 1-inch trashracks; (3) a concrete headrace 290 feet long, 42 feet wide, and 15 feet deep; (3) a brick powerhouse; (3) three vertical shaft Francis turbine/generator units with an installed capacity of 2.475 megawatts, and (9) appurtenant facilities. The applicant estimates that the total average annual generation would be 11,000 megawatthours. All generated power is utilized within the applicant's electric utility system, furnishing power for industrial manufacturing in the Sibley Mill. No new facilities are proposed.

m. A copy of the application is available for inspection and reproduction at the Commission's Public Reference Room, located at 888 First Street, NE, Room 2-A, Washington, D.C. 20426, or by calling (202) 208-1371. The application may be viewed on http://www.ferc.fed.us/online/rims.htm (call (202) 208-2222 for assistance). A copy is also available for inspection and reproduction at the address in item h above.

n. With this notice, we are initiating consultation with the Georgia State Historic Preservation Officer (SHPO), as required by section 106, National Historic Preservation Act, and the regulations of the Advisory Council on Historic Preservation, 36 CFR 800.4.

o. Procedural schedule and final amendments: The application will be processed according to the following milestones, some of which may be combined to expedite processing:

Notice of application has been accepted for filing

Notice of NEPA Scoping

Notice of application is ready for environmental analysis

Notice soliciting final terms and conditions

Notice of the availability of the draft NEPA document (draft EA)

Notice of the availability of the final NEPA document (final EA)

Order issuing the Commission's decision on the application

Final amendments to the application must be filed with the Commission no later than 30 days from the issuance date of the notice of ready for environment analysis.

David P. Boergers,
Secretary.

[FR Doc. 01-9420 Filed 4-16-01; 8:45 am]

BILLING CODE 6717-01-M